DEPARTMENT OF THE TREASURY

Office of Foreign Assets Control

Removal of Designation of Terrorism—Related Blocked Person

AGENCIES: Office of Foreign Assets Control, Treasury.

ACTION: Notice.

SUMMARY: The Treasury Department's Office of Foreign Assets Control is removing the name of Mr. Liban Hussein from the list of those persons whose property and interests in property have been blocked pursuant to Executive Order 13224 of September 23, 2001, pertaining to persons who commit, threaten to commit, or support terrorism. Mr. Hussein was designated pursuant to Executive Order 13224 on November 7, 2001.

DATES: The removal of Mr. Liban Hussein from the list of persons whose property and interests in property have been blocked pursuant to Executive Order 13224 is effective as of July 15, 2002.

FOR FURTHER INFORMATION CONTACT: Office of Foreign Assets Control, Department of the Treasury, Washington, DC 20220, tel.: 202-622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

On September 23, 2001, President Bush issued Executive Order 13224 (the “Order”) imposing economic sanctions on persons who commit, threaten to commit, or support certain acts of terrorism. In an annex to the Order, President Bush identified 12 individuals and 15 entities whose assets are blocked pursuant to the Order (66 FR 49079, September 25, 2001). Additional persons have been blocked pursuant to authorities set forth in the Order since that date and notice of such published in the Federal Register. One such additional person, Mr. Liban Hussein, was designated by the Secretary of the Treasury in consultation with the Secretary of State and the Attorney General, acting pursuant to authorities set forth in the Order, on November 7, 2001 (67 FR 12644, March 19, 2002). The Treasury's Office of Foreign Assets Control has determined that Mr. Hussein no longer continues to meet the standards for designation under E.O. 13224 and is appropriate for removal from the list of persons designated under Executive Order 13224.

The removal of Mr. Hussein's name from the list of those persons designated pursuant to Executive Order 13224 is effective as of July 15, 2002. All property and interests in property of Mr. Hussein, including but not limited to all accounts, that are or come within the United States or that are or come within the possession or control of United States persons, including their overseas branches, are now unblocked.

The following designation is removed from the list of persons designated pursuant to Executive Order 13224:

INDIVIDUAL (1):

HUSSEIN, Liban, 2019 Bank St., Ottawa, Ontario, Canada; 925 Washington St., Dorchester, Massachusetts, U.S.A.

Dated: July 16, 2002.
R. Richard Newcomb,
Director, Office of Foreign Assets Control.
Approved: August 13, 2002.
Kenneth Lawson,
Assistant Secretary (Enforcement), Department of the Treasury.

[FR Doc. 02-21641 Filed 8-22-02; 10:34 am]

BILLING CODE 4810-25-P